NATIONAL COUNCIL ON DISABILITY

Sunshine Act Meetings

Type: Quarterly meeting.

Dates and Times:

March 30, 2009, 8:30 a.m.-5 p.m.

March 31, 2009, 8:30 a.m.-5 p.m.

April 1, 2009, 8:30 a.m.-1 p.m.

Location: Academy for Educational Development Conference Center, 1825 Connecticut Avenue, NW., Washington, DC.

Status:

March 30, 2009, 8:30 a.m.-9:30 a.m.—Closed Executive Session.

March 30, 2009, 9:30 a.m.-5:00 p.m.—Open.

March 31, 2009, 8:30 a.m.-5:00 p.m.—Open.

April 1, 2009, 8:30 a.m.-1:00 p.m.—Open.

Agenda: Public Comment Sessions; Emergency Preparedness; Employment; Healthcare; Reports from the Chairperson, Council Members, and the Executive Director; Release of National Disability Policy: A Progress Report and Federal Employment of People with Disabilities; Unfinished Business; New Business; Announcements; Adjournment.

Sunshine Act Meeting Contact: Mark S. Quigley, Director of External Affairs, NCD, 1331 F Street, NW., Suite 850, Washington, DC 20004; 202-272-2004 (voice), 202-272-2074 (TTY), 202-272-2022 (fax).

Agency Mission: NCD is an independent Federal agency and is composed of 15 members appointed by the President, by and with the advice and consent of the Senate. NCD provides advice to the President, Congress, and executive branch agencies promoting policies, programs, practices, and procedures that guarantee equal opportunity for all individuals with disabilities, regardless of the nature or severity of the disability; and to empower individuals with disabilities to achieve economic self-sufficiency, independent living, and inclusion and integration into all aspects of society.

Accommodations: Those needing reasonable accommodations should notify NCD immediately.

Dated: February 26, 2009.
Michael C. Collins,
Executive Director.

[FR Doc. E9-4772 Filed 3-3-09; 4:15 pm]

BILLING CODE 6820-MA-P